DEPARTMENT OF ENERGY

Federal Energy Regulatory Commission

Combined Notice of Filings

December 22, 2009.

Take notice that the Commission has received the following Natural Gas Pipeline Rate and Refund Report filings:

Docket Numbers: RP10-241-000.

Applicants: Questar Overthrust Pipeline Company.

Description: Questar Overthurst Pipeline Company submits Third Revised Sheet 1 et al. to its FERC Gas Tariff, Second Revised Volume 1-A, to be effective 2/1/10.

Filed Date: 12/16/2009.

Accession Number: 20091216-0126.

Comment Date: 5 p.m. Eastern Time on Monday, December 28, 2009.

Docket Numbers: RP10-242-000.

Applicants: MarkWest Pioneer, L.L.C.

Description: MarkWest Pioneer, LLC submits Second Revised Sheet No 76 et al. FERC Gas Tariff, Original Volume No 1.

Filed Date: 12/16/2009.

Accession Number: 20091217-0190.

Comment Date: 5 p.m. Eastern Time on Monday, December 28, 2009.

Docket Numbers: RP10-243-000.

Applicants: Rockies Express Pipeline LLC.

Description: Rockies Express Pipeline LLC submits Fourteenth Revised Sheet 10 et al. of its FERC Gas Tariff, Second Revised Volume 1, to be effective 12/17/09.

Filed Date: 12/16/2009.

Accession Number: 20091217-0191.

Comment Date: 5 p.m. Eastern Time on Monday, December 28, 2009.

Docket Numbers: RP10-244-000.

Applicants: Maritimes & Northeast Pipeline, L.L.C.

Description: Maritimes & Northeast Pipeline, LLC submits Sixth Revised Sheet No. 1 et al. to FERC Gas Tariff, First Revised Volume No. 1.

Filed Date: 12/17/2009.

Accession Number: 20091218-0201.

Comment Date: 5 p.m. Eastern Time on Tuesday, December 29, 2009.

Docket Numbers: RP10-245-000.

Applicants: Rockies Express Pipeline LLC.

Description: Rockies Express Pipeline LLC submits Original Sheet No. 11A et al. to its FERC Gas Tariff, Second Revised Volume No. 1.

Filed Date: 12/17/2009.

Accession Number: 20091218-0203.

Comment Date: 5 p.m. Eastern Time on Tuesday, December 29, 2009.

Docket Numbers: RP10-246-000.

Applicants: Texas Gas Transmission, LLC.

Description: Texas Gas Transmission, LLC submits Fifth Revised Sheet No. 35A to FERC Gas Tariff, Third Revised Volume No. 1.

Filed Date: 12/17/2009.

Accession Number: 20091218-0463.

Comment Date: 5 p.m. Eastern Time on Tuesday, December 29, 2009.

Docket Numbers: RP10-247-000.

Applicants: Equitrans, L.P.

Description: Equitrans, LP submits Third Revised Sheet 441 to be effective 1/17/10.

Filed Date: 12/18/2009.

Accession Number: 20091218-0480.

Comment Date: 5 p.m. Eastern Time on Wednesday, December 30, 2009.

Docket Numbers: RP10-248-000.

Applicants: Central Kentucky Transmission Company.

Description: Central Kentucky Transmission Company's submits Penalty Revenue Crediting Report.

Filed Date: 12/18/2009.

Accession Number: 20091218-0479.

Comment Date: 5 p.m. Eastern Time on Wednesday, December 30, 2009.

Docket Numbers: RP10-249-000.

Applicants: Columbia Gas Transmission, LLC.

Description: Columbia Gas Transmission, LLC submits petition for a limited waiver of Section 40.5 of the General Terms and Conditions of Columbia's FERC Gas Tariff, Third Revised Volume 1.

Filed Date: 12/18/2009.

Accession Number: 20091218-0478.

Comment Date: 5 p.m. Eastern Time on Wednesday, December 30, 2009.

Docket Numbers: RP10-250-000.

Applicants: Crossroads Pipeline Company.

Description: Crossroads Pipeline Company's submits Penalty Revenue Crediting Report.

Filed Date: 12/18/2009.

Accession Number: 20091218-0477.

Comment Date: 5 p.m. Eastern Time on Wednesday, December 30, 2009.

Docket Numbers: RP10-251-000.

Applicants: Columbia Gulf Transmission Company.

Description: Columbia Gulf Transmission Company submits Penalty Revenue Crediting Report.

Filed Date: 12/18/2009.

Accession Number: 20091218-0476.

Comment Date: 5 p.m. Eastern Time on Wednesday, December 30, 2009.

Docket Numbers: RP10-252-000.

Applicants: Columbia Gas Transmission, LLC.

Description: Columbia Gas Transmission, LLC submits Penalty Revenue Crediting Report.

Filed Date: 12/18/2009.

Accession Number: 20091218-0475.

Comment Date: 5 p.m. Eastern Time on Wednesday, December 30, 2009.

Docket Numbers: RP10-253-000.

Applicants: Great Lakes Gas Transmission Limited Partnership.

Description: Great Lakes Gas Transmission Limited Partnership submits Seventh Revised Sheet 4A et al. to FERC Gas tariff, Second Revised Volume 1, to be effective 2/1/10.

Filed Date: 12/18/2009.

Accession Number: 20091218-0473.

Comment Date: 5 p.m. Eastern Time on Wednesday, December 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed docket(s). For assistance with any FERC Online service, please e-mail FERCOnlineSupport@ferc.gov. or call (866) 208-3676 (toll free). For TTY, call (202) 502-8659.

Nathaniel J. Davis, Sr.,
Deputy Secretary.

[FR Doc. 2010-462 Filed 1-12-10; 8:45 am]

BILLING CODE 6717-01-P